DEPARTMENT OF COMMERCE

National Oceanic and Atmospheric Administration

RIN 0648-XE748

Caribbean Fishery Management Council; Public Meeting

AGENCY: National Marine Fisheries Service (NMFS), National Oceanic and Atmospheric Administration (NOAA), Commerce.

ACTION: Notice of a public meeting.

SUMMARY: The Caribbean Fishery Management Council's ABC Control Rule Group will hold a two-day meeting.

DATES: The meetings will be held on August 15 and 16, 2016.

ADDRESSES: The meetings will be held at the Caribbean Fishery Management Council Headquarters, 270 Muñoz Rivera Avenue, Suite 401, San Juan, Puerto Rico 00918.

FOR FURTHER INFORMATION CONTACT: Caribbean Fishery Management Council, 270 Muñoz Rivera Avenue, Suite 401, San Juan, Puerto Rico 00918-1903, telephone: (787) 766-5926.

SUPPLEMENTARY INFORMATION:

The Caribbean Fishery Management Council's ABC Control Rule Group will hold a two-day meeting to discuss the items contained in the following agenda:

• Call to Order

• Adoption of Agenda

• Brief Review of ABC Control Rule

• Examples of ABC Control Rules: South Atlantic, Gulf of Mexico, Western Pacific

• Discussion on tiers ABC Control Rule

• Evaluation of components of uncertainty

• Potential guidance coming out of data poor models (OFL advice to ABC SSC advice to CFMC)

• Review landings data (commercial and recreational) for entire historical series

• Recommendations to the SSC

• Other Business

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: July 19, 2016.
Tracey L. Thompson,
Acting Deputy Director, Office of Sustainable Fisheries, National Marine Fisheries Service.

[FR Doc. 2016-17451 Filed 7-22-16; 8:45 am]

BILLING CODE 3510-22-P